DEPARTMENT OF TRANSPORTATION

Federal Aviation Administration

14 CFR Part 39

[Docket No. 2002-NM-133-AD; Amendment 39-12772; AD 2002-11-11]

RIN 2120-AA64

Airworthiness Directives; Boeing Model 767-200, -300, and -300F Series Airplanes

AGENCY: Federal Aviation Administration, DOT.

ACTION: Final rule; request for comments.

SUMMARY: This amendment adopts a new airworthiness directive (AD) that is applicable to certain Boeing Model 767-200, -300, and -300F series airplanes. This action requires an inspection of visually accessible areas for indications of overheating of the heater tape attached to the potable water fill and drain lines in the forward and aft cargo compartments, exposed foam insulation or missing or damaged protective tape around the potable water fill and drain lines, and debris or contaminants on or near the potable water fill and drain lines. It also requires corrective action, as necessary. This action is necessary to prevent overheating of the heater tape on potable water fill and drain lines, which may ignite accumulated debris or contaminants on or near the potable water fill and drain lines, resulting in a fire in the airplane. This action is intended to address the identified unsafe condition.

DATES: Effective June 24, 2002.

The incorporation by reference of certain publications listed in the regulations is approved by the Director of the Federal Register as of June 24, 2002.

Comments for inclusion in the Rules Docket must be received on or before August 6, 2002.

ADDRESSES: Submit comments in triplicate to the Federal Aviation Administration (FAA), Transport Airplane Directorate, ANM-114, Attention: Rules Docket No. 2002-NM-133-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via fax or the Internet must contain “Docket No. 2002-NM-133-AD” in the subject line and need not be submitted in triplicate. Comments sent via the Internet as attached electronic files must be formatted in Microsoft Word 97 for Windows or ASCII text.

The service information referenced in this AD may be obtained from Boeing Commercial Airplane Group, P.O. Box 3707, Seattle, Washington 98124-2207. This information may be examined at the FAA, Transport Airplane Directorate, 1601 Lind Avenue, SW., Renton, Washington; or at the Office of the Federal Register, 800 North Capitol Street, NW., suite 700, Washington, DC.

FOR FURTHER INFORMATION CONTACT: Donald Eiford, Aerospace Engineer, Airframe Branch, ANM-120S, FAA, Seattle Aircraft Certification Office, 1601 Lind Avenue, SW., Renton, Washington 98055-4056; telephone (425) 227-2788; fax (425) 227-1181.

SUPPLEMENTARY INFORMATION: The FAA has received a report of a fire in the aft cargo compartment of a Boeing Model 767 series airplane. The fire was detected and extinguished. Investigation by the operator of the airplane indicated that heater tape on a water fill line overheated, igniting debris accumulated on or near the heater tape. The operator also inspected several other airplanes and found heater tape which failed a continuity test, evidence of heat damage on foam insulation or protective tape, and similar accumulated debris on or near heater tape in potable water fill and drain lines in both the forward and aft cargo compartments. This combination of failed heater tape on the potable water fill and drain lines and the accumulation of ignitable debris or contamination on or near one of those lines, if left uncorrected, may lead to a fire in the airplane.

Explanation of Relevant Service Information

The FAA has reviewed and approved Boeing Alert Service Bulletin 767-30A0037, dated May 28, 2002, which describes procedures for the following:

• Inspection of visually accessible areas in the forward and aft cargo compartments for accumulated debris and contaminants on or near the potable water fill and drain lines and removal of such debris or contaminants;

• Inspection of visually accessible portions of the potable water fill and drain lines in the forward and aft cargo compartments for indications of overheating of the heater tape and replacement of heater tape where such indications are found; and

• Inspection of visually accessible portions of the potable water fill and drain lines in the forward and aft cargo compartments or missing or damaged protective tape or exposed foam insulation and replacement of the missing or damaged protective tape.

Explanation of the Requirements of the Rule

Since an unsafe condition has been identified that is likely to exist or develop on other airplanes of the same type design, this AD is being issued to prevent a fire in the airplane due to overheating of the heater tape on potable water fill and drain lines, which may ignite combustible debris. This AD requires accomplishment of the actions specified in the service bulletin described previously, except as specified below.

The FAA is investigating the extent to which the heater tape addressed in this AD is used on other Boeing airplane models and may consider additional rulemaking based on our findings.

Interim Action

This is considered to be interim action until final action is identified, at which time the FAA may consider further rulemaking.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2002-NM-133-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-11-11 Boeing: Amendment 39-12772. Docket 2002-NM-133-AD.

Applicability: Model 767-200, -300, and -300F series airplanes with non-fully-enclosed cargo floors in the lower cargo areas; certificated in any category. A fully enclosed cargo floor is a floor with panels installed between all roller trays in the cargo compartment. A non-fully-enclosed cargo floor is a floor without panels installed between all roller trays in the cargo compartment.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent a fire in the airplane due to overheating of heater tape on potable water lines and drain lines, which may ignite combustible debris or contaminants which have accumulated on or near the potable water and drain lines, accomplish the following:

Compliance Time

(a) Within 18 months after date of delivery of the airplane, or within 90 days after the effective date of this AD, whichever occurs later: Accomplish paragraphs (b) and (c) of this AD.

Removal of Debris

(b) Perform a one-time general visual inspection for foreign object debris (FOD) or contamination in visually accessible areas on or near potable water and drain lines located below the cargo floor in the forward and aft cargo compartments, in accordance with Boeing Alert Service Bulletin 767-30A0037, dated May 28, 2002. If FOD or contamination is observed on or near the potable water or drain lines, prior to further flight, remove it in accordance with the service bulletin.

Note 2: The visual inspection of potable water and drain lines in visually accessible areas does not require removal of floor panels.

Note 3: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Inspection of Potable Water and Drain Lines

(c) As indicated in paragraphs (c)(1) and (c)(2) of this AD, perform a general visual inspection of visually accessible areas for discrepancies of potable water and drain lines located below the cargo floor in the forward and aft cargo compartments, in accordance with Boeing Alert Service Bulletin 767-30A0037, dated May 28, 2002.

(1) Inspect potable water and drain lines for indications of overheating of the heater tape, such as localized darkening of foam insulation or protective tape. If such an indication of overheating is observed, prior to further flight, replace the defective heater tape in accordance with the service bulletin, removing floor panels as necessary to replace the defective heater tape.

(2) Inspect potable water and drain lines for missing or damaged protective tape and exposed foam insulation. If exposed foam insulation is observed, prior to further flight, cover the foam insulation with a continuous wrap of protective tape, in accordance with the service bulletin. If protective tape is observed to be missing or damaged, prior to further flight, replace the protective tape in accessible areas in accordance with the service bulletin. It is not necessary to remove floor panels to replace the protective tape.

Alternative Methods of Compliance

(d) An alternative method of compliance or adjustment of the compliance time that provides an acceptable level of safety may be used if approved by the Manager, Seattle Aircraft Certification Office (ACO), FAA. Operators shall submit their requests through an appropriate FAA Principal Maintenance Inspector, who may add comments and then send it to the Manager, Seattle ACO.

Note 4: Information concerning the existence of approved alternative methods of compliance with this AD, if any, may be obtained from the Seattle ACO.

Special Flight Permits

(e) Special flight permits may be issued in accordance with §§ 21.197 and 21.199 of the Federal Aviation Regulations (14 CFR 21.197 and 21.199) to operate the airplane to a location where the requirements of this AD can be accomplished.

Incorporation by Reference

(f) The actions shall be done in accordance with Boeing Alert Service Bulletin 767-30A0037, dated May 28, 2002. This incorporation by reference was approved by the Director of the Federal Register in accordance with 5 U.S.C. 552(a) and 1 CFR part 51. Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(g) This amendment becomes effective on June 24, 2002.

Issued in Renton, Washington, on May 29, 2002.
Vi L. Lipski,
Manager, Transport Airplane Directorate, Aircraft Certification Service.

[FR Doc. 02-14129 Filed 6-6-02; 8:45 am]

BILLING CODE 4910-13-P